FEDERAL MARITIME COMMISSION

Ocean Transportation Intermediary License Applicants

Notice is hereby given that the following applicants have filed with the Federal Maritime Commission an application for license as a Non-Vessel-Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel-Operating Common Carrier Ocean Transportation Intermediary Applicants

Transco Worldwide Freight LLC, 138-04 175th Street, Jamaica, NY 11434. Officer: Demba S. Ba, Owner (Qualifying Individual).

Trico Forwarding USA Inc., 172 E. Manville Street, Compton, CA 90220. Officers: Lionel M. Perera, President (Qualifying Individual). Nirmala P. Perera, Vice President.

Deployed Logistics, Inc. dba X-Line Logistics, 1547 Avenida Salvador, San Clemente, CA 92672. Officer: Kevin D. McCarten, CEO (Qualifying Individual).

Charcamp Holdings, Inc., 2503 SE. J Street, Bentonville, AR 72712. Officer: Charles J. Charlton, Chairman (Qualifying Individual).

IES Logistics Corp., 155-04 145th Ave., Jamaica, NY 11434. Officer: Dong Ik Lee, President (Qualifying Individual).

SOBE Enterprises, Inc. dba SOBE Export Services, 8349 NW. 68 Street, Miami, FL 33166. Officer: Claude Sterling, President (Qualifying Individual).

Kyodo Shipping & Trading Corporation USA, 17-01 Pollitt Drive, Fair Lawn, NJ 07410. Officer: Uri Cohen, President (Qualifying Individual).

Byasa Logistics LLC, 2700 S. Azusa Ave., #179, West Covina, CA 91792. Officers: Lucia Y. Babb, Managing Member (Qualifying Individual). Owen L. Babb, Member.

Overseas Express Shipping LLC, 1139 East Jersey Street, #209, Elizabeth, NJ 07201. Officers: Thomas Osei, Co-Owner, Yaw Amankwah, Co-Owner, Nana Gyamera, Co-Owner (Qualifying Individuals).

Exfreight Zeta Inc., 6500 Silver Dart Drive, #262, Mississauga, Ontario L5P 1B2 Canada. Officers: Ajay Nair, President (Qualifying Individual). Sherman Fernando, Vice President.

Non-Vessel-Operating Common Carrier and Ocean Freight Forwarder Transportation Intermediary Applicants

BookFreight Worldwide, LLC, 8201 La Porte Fwy, Ste. 300, Houston, TX 77012. Officers: Rosa G. Mahand, Secretary (Qualifying Individual). Brandon L. Mahand, Managing Director.

ARI Shipping Corp dba Weshipboats.com, 80 Sheridan Blvd., Inwood, NY 11096. Officer: Ilan Fidler, President (Qualifying Individual).

Midacomp Corp., 2841 NW. 107th Ave., Miami, FL 33172. Officers: Rossana Gutierrez, Operations Manager (Qualifying Individual). Adriana Stern, President.

Mitsubishi Logistics America Corporation, 61 Broadway, Ste. 1115, New York, NY 10006. Officer: Robert M. Wallace, Asst. V. President (Qualifying Individual).

Direct Parcel Service Corp dba DPS Cargo dba Direct Parcel Service, 7703 NW. 46 Street, Doral, FL 33166. Officer: Garcia Milagros, Director (Qualifying Individual).

Seamaster Shipping Company, 4003 Coyle Street, Houston, TX 77003. Officer: Wajid A. Qureshi, President (Qualifying Individual).

Pelham Services, Inc., 5413 NW. 72 Ave., Miami, FL 33166. Officers: Raul E. Reveron, Vice President (Qualifying Individual). Mary Reveron, President.

All States Van Lines LLC, 230 174 Street, #811, Sunny Isles Beach, FL 33160. Officer: Vita Shteyn, Member (Qualifying Individual).

Allround Logistics Inc. dba Allround Maritime Services, 7240 Ingram Street, Forest Hills, NY 11375. Officers: Roland Meier, President (Qualifying Individual). Martina Stahl, Vice President.

Ocean Freight Forwarder—Ocean Transportation Intermediary Applicants

Golden Freight, Inc., 671E Olive Ave., #1, Sunnyvale, CA 94086. Officer: Chi T. Hoang, CEO (Qualifying Individual).

Elzado Enterprises Incorporated dba Elzado Enterprises Inc., 14940 Grant Lane, Leisure City, FL 33033. Officers: Trudy Westcarr, CFO (Qualifying Individual). Ernest E. Robinson, President.

HSHK Corp., 19 Plymouth Rd., Staten Island, NY 10314. Officer: Hanan W. Seif, President (Qualifying Individual).

Pelican Logistics Inc., 2708 West Brairwood Dr., Arlington Heights, IL 60005. Officer: Jodie Kim, President (Qualifying Individual).

International Cargo Corporation, 7965 NW. 64th Street, Miami, FL 33166. Officer: Carlos G. Esperanza, President (Qualifying Individual).

Dated: May 29, 2009.
Karen V. Gregory,
Secretary.

[FR Doc. E9-12960 Filed 6-2-09; 8:45 am]

BILLING CODE 6730-01-P